DEPARTMENT OF DEFENSE

Department of the Army

32 CFR Part 633

[Docket ID: USA-2019-HQ-0016]

RIN 0702-AB00

Individual Requests for Access or Amendment of CID Reports of Investigation

AGENCY: Department of the Army, DoD.

ACTION: Final rule.

SUMMARY: This final rule removes the Department of the Army regulation concerning the Criminal Investigation Division (CID) reports of investigation on specific military installations. The content of this part is addressed in DoD regulations related to the Privacy Act and Freedom of Information Act, and it is unnecessary.

DATES: This rule is effective on August 12, 2019.

FOR FURTHER INFORMATION CONTACT: T.L. Williams at 571-305-4355.

SUPPLEMENTARY INFORMATION: This final rule removes 32 CFR part 633, “Individual Requests for Access or Amendment of CID Reports of Investigation,” which was originally codified on July 27, 1979 (44 FR 44156), and most recently updated on May 17, 2013 (78 FR 29019). It has been determined that publication of this CFR part removal for public comment is impracticable, unnecessary, and contrary to public interest since it is based on removing content which is covered in DoD regulations at 32 CFR part 286, “DoD Freedom of Information Act (FOIA) Program” (last updated January 5, 2017, at 82 FR 1197), and 32 CFR part 310, “DoD Privacy Program” (last updated April 11, 2019 at 84 FR 14730).

Additional internal Army guidance is published in Army Regulation 190-45, “Law Enforcement Reporting,” (available at https://armypubs.army.mil/ProductMaps/PubForm/AR.aspx) which was most recently updated on September 27, 2016.

This rule is not significant under Executive Order (E.O.) 12866, “Regulatory Planning and Review,” therefore, E.O. 13771, “Reducing Regulation and Controlling Regulatory Costs” does not apply.

List of Subjects in 32 CFR Part 633

Freedom of information, Investigations, Privacy.

PART 633—[REMOVED]

Accordingly, by the authority of 5 U.S.C. 301, 32 CFR part 633, is removed.

Brenda S. Bowen,
Army Federal Register Liaison Officer.

[FR Doc. 2019-17192 Filed 8-9-19; 8:45 am]

BILLING CODE 5001-03-P